DEPARTMENT OF JUSTICE

Office of Justice Programs

[OJP (NIJ) Docket No. 1729]

Baseline Specifications for Law Enforcement Service Pistols With Security Technology

AGENCY: National Institute of Justice, Justice.

ACTION: Notice.

SUMMARY: The National Institute of Justice (NIJ) announces the publication of Baseline Specifications for Law Enforcement Service Pistols with Security Technology, which defines baseline specifications for law enforcement service pistols with additional technology to enhance the security of the firearms, found here: http://nij.gov/topics/technology/firearms/pages/welcome.aspx.

FOR FURTHER INFORMATION CONTACT: Mark Greene, Office of Science and Technology, National Institute of Justice, 810 7th Street NW., Washington, DC 20531; telephone number: (202) 598-9412; email address: mark.greene2@usdoj.gov.

SUPPLEMENTARY INFORMATION: On April 29, 2016, the U.S. Departments of Justice (DOJ), Homeland Security (DHS), and Defense (DoD) submitted a joint report to the President outlining a strategy to expedite deployment of gun safety technology, found here: https://www.whitehouse.gov/sites/default/files/docs/final_report-smart_gun_report.pdf.

The report was published in response to Presidential Memorandum, Promoting Smart Gun Technology, found here: https://www.whitehouse.gov/the-press-office/2016/01/05/memorandum-promoting-smart-gun-technology. The report described the potential benefits of advanced gun safety technology, but noted that additional work was required before this technology is ready for widespread adoption by law enforcement agencies. In particular, the report stressed the importance of integrating this technology into a firearm's design without compromising the reliability, durability, and accuracy that officers expect from their service weapons.

To address these issues, the report called on law enforcement agencies to develop “baseline specifications,” which would outline the agencies' operational requirements for any firearms equipped with gun safety technology. By developing baseline specifications, federal, state, and municipal law enforcement agencies can make clear to private manufacturers what they expect from this technology.

DOJ and DHS recently assembled a working group of experts in firearms technology to identify operational needs and prepare a draft document that defines generic baseline specifications for law enforcement service pistols with additional technology to enhance the security of firearms. The additional security specifications that may be addressed by smart gun technology are distinguished from more familiar firearm safety mechanisms. The distinction between safety and security can be nuanced, and the additional security specifications may also function as safety features under certain circumstances. However, this distinction forms the basis of the use of the different terminology. The working group was led by NIJ and was comprised of subject matter experts from various federal law enforcement agencies. The pistols defined by this document are semi-automatic, recoil-operated, magazine-fed, striker-fired, and fire 9 mm Luger or .40 S&W ammunition. The information detailed in this document is informed in part by specifications enumerated in recent handgun solicitations by the Federal Bureau of Investigation (FBI) and Immigration and Customs Enforcement (ICE), which are publicly available on FedBizOpps (http://www.fbo.gov) under solicitation numbers RFP-OSCU-DSU1503 and HSCEMS-16-R-00003, respectively.

NIJ published a Federal Register notice (https://www.federalregister.gov/d/2016-16759) on July 15, 2016, seeking feedback from the public on the draft document that defined generic baseline specifications for law enforcement service pistols with additional technology to enhance the security of the firearms. The 60-day public comment period closed on September 13, 2016. The working group made revisions to the draft document, and the final version of the document, Baseline Specifications for Law Enforcement Service Pistols with Security Technology, is published here: http://nij.gov/topics/technology/firearms/pages/welcome.aspx.

Nancy Rodriguez,
Director, National Institute of Justice.

[FR Doc. 2016-27387 Filed 11-14-16; 8:45 am]

BILLING CODE 4410-18-P